DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of June 1, 2022 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Humboldt County, Iowa and Incorporated Areas
Docket No.: FEMA-B-2112
City of Humboldt | Municipal Building, 29 5th Street South, Humboldt, IA 50548.
Unincorporated Areas of Humboldt County | Humboldt County Courthouse, 203 Main Street, Dakota City, IA 50529.
Ida County, Iowa and Incorporated Areas
Docket No.: FEMA-B-2105
City of Arthur | City Hall, 217 South Main Street, Arthur, IA 51431.
City of Battle Creek | City Hall, 115 Main Street, Battle Creek, IA 51006.
City of Galva | City Hall, 116 South Main Street, Galva, IA 51020.
City of Holstein | City Hall, 119 South Main Street, Holstein, IA 51025.
City of Ida Grove | City Hall, 403 3rd Street, Ida Grove, IA 51445.
Unincorporated Areas of Ida County | Ida County Courthouse, 401 Moorehead Street, Ida Grove, IA 51445.
Sac County, Iowa and Incorporated Areas
Docket No.: FEMA-B-2025
City of Auburn | City Hall, 209 Pine Street, Auburn, IA 51433.
City of Early | City Hall, 107 Main Street, Early, IA 50535.
City of Lake View | City Hall, 305 Main Street, Lake View, IA 51450.
City of Odebolt | City Hall, 205 West 2nd Street, Odebolt, IA 51458.
City of Sac City | City Hall, 302 East Main Street, Sac City, IA 50583.
City of Schaller | City Hall, 101 South Main Street, Schaller, IA 51053.
City of Wall Lake | City Hall, 108 Boyer Street, Wall Lake, IA 51466.
Unincorporated Areas of Sac County | Sac County Courthouse, 100 Northwest State Street, Sac City, IA 50583.
Union County, Iowa and Incorporated Areas
Docket No.: FEMA-B-2105
City of Creston | City Offices, 116 West Adams Street, Creston, IA 50801.
Unincorporated Areas of Union County | Union County Emergency Management Office, 705 East Taylor Street, Creston, IA 50801.
Brown County, Kansas and Incorporated Areas
Docket No.: FEMA-B-2122
City of Fairview | Fairview Community Center, 511 West Front Street, Fairview, KS 66425.
City of Hamlin | Brown County Courthouse, 601 Oregon Street, Hiawatha, KS 66434.
City of Hiawatha | City Hall, 701 Oregon Street, Hiawatha, KS 66434.
City of Horton | City Hall, 205 East 8th Street, Horton, KS 66439.
City of Morrill | City Hall, 612 Roxanna Street, Morrill, KS 66515.
City of Reserve | Reserve City Hall, 109 North Main Street, Hiawatha, KS 66434.
City of Robinson | City Hall, 118 Parsons Street, Robinson, KS 66532.
Iowa Tribe of Kansas and Nebraska | Iowa Tribe of Kansas and Nebraska, 3345 B Thrasher Road, White Cloud, KS 66094.
Kickapoo Tribe in Kansas | Kickapoo Tribe Government Offices, 824 111th Drive, Horton, KS 66439.
Sac & Fox Nation of Missouri in Kansas and Nebraska | Sac & Fox Nation Environmental Department, 401 North Arch Street, Reserve, KS 66434.
Unincorporated Areas of Brown County | Brown County Courthouse, 601 Oregon Street, Hiawatha, KS 66434.
Douglas County, Kansas and Incorporated Areas
Docket No.: FEMA-B-2061
City of Baldwin City | City Hall, 803 8th Street, Baldwin City, KS 66006.
Unincorporated Areas of Douglas County | Douglas County Courthouse, 1100 Massachusetts Street, Lawrence, Kansas 66044.
Alcona County, Michigan (All Jurisdictions)
Docket No.: FEMA-B-2107
City of Harrisville | City Hall, 200 North 5th Street, Harrisville, MI 48740.
Township of Alcona | Alcona Township Hall, 5576 North U.S. Highway 23, Black River, MI 48721.
Township of Greenbush | Township Hall, 5039 Campbell Street, Greenbush, MI 48738.
Township of Harrisville | Township Hall, 114 South Poor Farm Road, Harrisville, MI 48740.
Township of Haynes | Haynes Township Hall, 3930 East McNeil Road, Lincoln, MI 48742.
Alpena County, Michigan (All Jurisdictions)
Docket No.: FEMA-B-2107
City of Alpena | City Hall, 208 North First Avenue, Alpena, MI 49707.
Charter Township of Alpena | Charter Township Hall, 4385 U.S. Highway 23 North, Alpena, MI 49707.
Township of Sanborn | Sanborn Township Hall, 12025 U.S. Highway 23 South, Ossineke, MI 49766.
Emmet County, Michigan (All Jurisdictions)
Docket No.: FEMA-B-1975
City of Harbor Springs | City Hall, 160 Zoll Street, Harbor Springs, MI 49740.
City of Petoskey | City Hall, 101 East Lake Street, Petoskey, MI 49770.
Little Traverse Bay Bands of Odawa Indians | Little Traverse Bay Bands of Odawa Indians, 7500 Odawa Circle, Harbor Springs, MI 49740.
Township of Bear Creek | Bear Creek Township Hall, 373 North Division Road, Petoskey, MI 49770.
Township of Bliss | Bliss Township Hall, 265 West Sturgeon Bay Trail, Levering, MI 49755.
Township of Cross Village | Cross Village Township Hall, 5954 Wadsworth Street, Harbor Springs, MI 49740.
Township of Friendship | Friendship Township Hall, 8774 Kawegoma Road, Harbor Springs, MI 49740.
Township of Little Traverse | Little Traverse Township Hall, 8288 Pleasantview Road, Harbor Springs, MI 49740.
Township of Readmond | Readmond Township Hall, 6034 Wormwood Lane, Harbor Springs, MI 49740.
Township of Resort | Resort Township Hall, 2232 Resort Pike Road, Petoskey, MI 49770.
Township of Wawatam | Wawatam Township Hall, 119 West Etherington Street, Mackinaw City, MI 49701.
Township of West Traverse | West Traverse Township Hall, 8001 M-119, Harbor Springs, MI 49740.
Village of Mackinaw City | Village Hall, 102 South Huron Avenue, Mackinaw City, MI 49701.
Butte-Silver Bow County, Montana (All Jurisdictions)
Docket No.: FEMA-B-2110
Butte-Silver Bow County | Butte-Silver Bow Courthouse, 155 West Granite Street, Room 108, Butte, MT 59701.
Dinwiddie County, Virginia and Incorporated Areas
Docket No.: FEMA-B-2110
Unincorporated Areas of Dinwiddie County | Dinwiddie County Government Center, 14010 Boydton Plank Road, Dinwiddie, VA 23841.
Goshen County, Wyoming and Incorporated Areas
Docket No.: FEMA-B-2101
City of Torrington | Lincoln Community Complex, 436 East 22nd Avenue, Torrington, WY 82240.
Town of Fort Laramie | Town Hall, 102 West Otis Street, Fort Laramie, WY 82212.
Town of LaGrange | Town Hall, 200 C Street, LaGrange, WY 82221.
Town of Lingle | Town Hall, 220 Main Street, Lingle, WY 82223.
Town of Yoder | Town Hall, 321 Main Street, Yoder, WY 82244.
Unincorporated Areas of Goshen County | Goshen County Courthouse, 2125 East A Street, Room 120, Torrington, WY 82240.

[FR Doc. 2022-06846 Filed 3-31-22; 8:45 am]

BILLING CODE 9110-12-P